FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 4, 2017.

A. Federal Reserve Bank of Atlanta (Chapelle Davis, Assistant Vice President) 1000 Peachtree Street NE., Atlanta, Georgia 30309. Comments can also be sent electronically to Applications.Comments@atl.frb.org:

1. Charles Wesley Smith, Jr., Charles Wesley Smith, Sr., Edward Davis Smith, and Hutchinson-Traylor Insurance Agency, all of LaGrange, Georgia; to retain the voting shares of LBC Bancshares, Inc., and thereby indirectly retain voting shares of Calumet Bank, both of LaGrange, Georgia.

B. Federal Reserve Bank of Minneapolis (Jacquelyn K. Brunmeier, Assistant Vice President) 90 Hennepin Avenue, Minneapolis, Minnesota 55480-0291:

1. Nicholas Steven Wilcox, Wayzata, Minnesota; to acquire voting shares of Wilcox Bancshares, Inc., Grand Rapids, Minnesota, and join the Wilcox family shareholder group. Wilcox Bancshares controls Grand Rapids State Bank, Grand Rapids, Minnesota, and Minnesota Lakes Bank, Delano, Minnesota.

Board of Governors of the Federal Reserve System, April 13, 2017.
Ann E. Misback,
Secretary of the Board.

[FR Doc. 2017-08003 Filed 4-19-17; 8:45 am]

BILLING CODE 6210-01-P